DEPARTMENT OF TRANSPORTATION

Federal Railroad Administration

[Docket Number FRA-2018-0011]

Petition for Modification of Single Car Air Brake Test Procedures

Under part 232 of Title 49 Code of Federal Regulations (CFR), this provides the public notice that on January 5, 2018, the Association of American Railroads (AAR) requested the Federal Railroad Administration (FRA) grant a modification of the single car air brake test procedures as prescribed in 49 CFR 232.305(a). FRA assigned the request Docket Number FRA-2018-0011.

As described in its request, the AAR Braking Systems Committee has revised and sent out for comment an updated version of AAR Standard S-486-04—Code of Air Brake System Tests for Freight Equipment, which is incorporated by reference in 49 CFR 232.305—Single car air brake tests. The main objective of the revision was to incorporate tests for a new feature known as brake cylinder maintaining. AAR asked for expedited processing of this request so the 60-day review period required by 49 CFR 232.307 can begin as soon as possible and the new procedure can be referenced in the CFR.

A copy of these documents and the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. All communications concerning these proceedings should identify the appropriate docket number (e.g., Docket Number FRA-2018-0011) and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by April 9, 2018, will be considered by FRA before final action is taken. Pursuant to 49 CFR 232.307(d), if no comment objecting to the requested modification is received during the 60-day comment period, or if FRA does not issue a written objection to the requested modification, the modification will become effective on April 23, 2018.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2018-02428 Filed 2-6-18; 8:45 am]

BILLING CODE 4910-06-P